FEDERAL DEPOSIT INSURANCE CORPORATION

Designated Reserve Ratio for 2016

AGENCY: Federal Deposit Insurance Corporation (FDIC).

ACTION: Notice of Designated Reserve Ratio for 2016.

Pursuant to the Federal Deposit Insurance Act, the Board of Directors of the Federal Deposit Insurance Corporation designates that the Designated Reserve Ratio (DRR) for the Deposit Insurance Fund shall remain at 2 percent for 2016.¹ The Board is publishing this notice as required by section 7(b)(3)(A)(i) of the Federal Deposit Insurance Act (12 U.S.C. 817(b)(3)(A)(i)).

¹ Section 327.4(g) of the FDIC's regulations sets forth the DRR. There is no need to amend this provision, because the DRR for 2016 is the same as the current DRR.

FOR FURTHER INFORMATION CONTACT: Munsell St. Clair, Chief, Banking and Regulatory Policy Section, Division of Insurance and Research, (202) 898-8967; Robert Grohal, Chief, Fund Analysis and Pricing Section, Division of Insurance and Research, (202) 898-6939; or, Nefretete Smith, Senior Attorney, Legal Division, (202) 898-6851.

Dated at Washington, DC, this 22nd day of October, 2015.
Federal Deposit Insurance Corporation.
By order of the Board of Directors.
Robert E. Feldman,
Executive Secretary.

[FR Doc. 2015-27290 Filed 10-26-15; 8:45 am]

BILLING CODE 6714-01-P